DEPARTMENT OF ENERGY

Federal Energy Regulatory Commission

[Docket No. RP04-136-000]

Iroquois Gas Transmission System; Notice of Informal Settlement Conference

June 9, 2004.

Take notice that an informal settlement conference will be convened in this proceeding commencing at 1:30 p.m. (e.s.t.) on Tuesday, June 15, 2004, at the offices of the Federal Energy Regulatory Commission, 888 First Street, NE., Washington, DC 20426, for the purpose of exploring the possible settlement of the above-referenced docket.

Any party, as defined by 18 CFR 385.102(c), or any participant as defined by 18 CFR 385.102(b), is invited to attend. Persons wishing to become a party must move to intervene and receive intervenor status pursuant to the Commission's regulations (18 CFR 385.214).

For additional information, please contact Arnold H. Meltz at arnold.meltz@ferc.gov, (202) 502-8649 or Thomas J. Burgess at thomas.burgess@ferc.gov, (202) 502-6058.

Linda Mitry,
Acting Secretary.

[FR Doc. E4-1369 Filed 6-17-04; 8:45 am]

BILLING CODE 6717-01-P